DEPARTMENT OF COMMERCE

National Oceanic and Atmospheric Administration

RIN 0648-XA384

Marine Mammals; File No. 16053

AGENCY: National Marine Fisheries Service (NMFS), National Oceanic and Atmospheric Administration (NOAA), Commerce.

ACTION: Notice; receipt of application.

SUMMARY: Notice is hereby given that Paul E. Nachtigall, PhD, Marine Mammal Research Program Hawaii Institute of Marine Biology, P.O. Box 1106, Kailua, Hawaii 96734, has applied in due form for a permit to conduct scientific research on cetaceans stranded or in rehabilitation facilities in the U.S.

DATES: Written, telefaxed, or e-mail comments must be received on or before June 16, 2011.

ADDRESSES: The application and related documents are available upon written request or by appointment in the offices listed at the end of the SUPPLEMENTARY INFORMATION.

Written comments on this application should be submitted to the Chief, Permits, Conservation and Education Division, at the address listed in the SUPPLEMENTARY INFORMATION below. Comments may also be submitted by facsimile to (301) 713-0376, or by e-mail to NMFS.Pr1Comments@noaa.gov. Please include File No. 16053 in the subject line of the e-mail comment.

Those individuals requesting a public hearing should submit a written request to the Chief, Permits, Conservation and Education Division at the address listed in the supplementary information. The request should set forth the specific reasons why a hearing on this application would be appropriate.

FOR FURTHER INFORMATION CONTACT: Amy Sloan or Kristy Beard, (301) 713-2289.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The applicant proposes to conduct auditory measurements and recordings of stranded and rehabilitating cetaceans to provide insight into the nature of strandings including those that may be caused by man-made sounds. The research techniques are also useful as a medical diagnostic tool to determine the hearing capabilities of stranded cetaceans that may aid in decisions regarding release to the wild. Researchers propose to use evoked auditory potential recordings with non-invasive suction cup sensors on up to 15 individuals each of certain species of cetaceans and make passive recordings of the sounds produced by the animals using hydrophones. Research will occur in waters or on beaches in the U.S. and in rehabilitation facilities in the U.S. over a five-year period. No non-target species would be affected.

Proposed target species include: Bryde's whale (Balaenoptera edeni), minke whale (B. acutorostrata), humpback whale (Megaptera novaeangliae), sperm whale (Physeter macrocephalus), pygmy sperm whale (Kogia breviceps), dwarf sperm whale (K. sima), beaked whales (Mesoplodon spp.), Cuvier's beaked whale (Ziphius cavirostrus), bottlenose whales (Hyperoodon spp.), giant bottlenose whales (Berardius spp.), Sheperd's beaked whale (Tasmacetus shepherdi), killer whale (Orcinus orca), pygmy killer whale (Feresa attenuata), pilot whales (Globicephala spp.), false killer whale (Pseudorca crassidens), rough-toothed dolphin (Steno bredanensis), beluga whale (Delphinapterus leucas), narwhal (Monodon monoceros), Pacific white-sided dolphin (Lagenorhynchus obliquidens), Atlantic white-sided dolphin (L. acutus), white-beaked dolphin (L. albirostris), hourglass dolphin (L. cruciger), dusky dolphin (L. obscurus), Fraser's dolphin (L. hosei), bottlenose dolphins (Tursiops spp.), Risso's dolphin (Grampus griseus), common dolphins (Delphinus spp.), harbor porpoise (Phocoena phocoena), melon-headed whale (Peponocephala electra), spotted dolphins (Stenella spp.), spinner dolphin (S. longirostrus), striped dolphin (S. coeruleoalba), right whale dolphins (Lissodelphis spp.), humpback dolphins (Sousa spp.), Commerson's and related dolphins (Cephalorhynchus spp.), finless porpoise (Neophocaena phocaenoides), and Dall's porpoise (Phocoenoides dalli).

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Documents may be reviewed in the following locations: Permits, Conservation and Education Division, Office of Protected Resources, NMFS, 1315 East-West Highway, Room 13705, Silver Spring, MD 20910; phone (301) 713-2289; fax (301) 713-0376;

Pacific Islands Region, NMFS, 1601 Kapiolani Blvd., Room 1110, Honolulu, HI 96814-4700; phone (808) 944-2200; fax (808) 973-2941;

Southwest Region, NMFS, 501 West Ocean Blvd., Suite 4200, Long Beach, CA 90802-4213; phone (562) 980-4001; fax (562) 980-4018;

Northwest Region, NMFS, 7600 Sand Point Way NE, BIN C15700, Bldg. 1, Seattle, WA 98115-0700; phone (206) 526-6150; fax (206) 526-6426;

Alaska Region, NMFS, P.O. Box 21668, Juneau, AK 99802-1668; phone (907) 586-7221; fax (907) 586-7249;

Southeast Region, NMFS, 263 13th Avenue South, Saint Petersburg, Florida 33701; phone (727) 824-5312; fax (727) 824-5309; and

Northeast Region, NMFS, 55 Great Republic Drive, Gloucester, MA 01930; phone (978) 281-9328; fax (978) 281-9394.

Dated: May 11, 2011.
P. Michael Payne,
Chief, Permits, Conservation and Education Division, Office of Protected Resources, National Marine Fisheries Service.

[FR Doc. 2011-12066 Filed 5-16-11; 8:45 am]

BILLING CODE 3510-22-P